DEPARTMENT OF DEFENSE

Office of the Secretary

Defense Science Board; Notice of Federal Advisory Committee Meeting

AGENCY: Under Secretary of Defense for Research and Engineering, Department of Defense (DoD).

ACTION: Notice of Federal Advisory Committee meeting.

SUMMARY: The DoD is publishing this notice to announce that the following Federal Advisory Committee meeting of the Defense Science Board (DSB) will take place.

DATES: Open to the public Thursday, January 18, 2024, from 3 p.m. to 3:45 p.m.

ADDRESSES: The DSB meeting will take place virtually.

FOR FURTHER INFORMATION CONTACT: Ms. Elizabeth J. Kowalski, Designated Federal Officer (DFO): (703) 571-0081 (Voice), (703) 697-1860 (Facsimile), elizabeth.j.kowalski.civ@mail.mil, (Email). Mailing address is Defense Science Board, 3140 Defense Pentagon, Washington, DC 20301-3140. Website: http://www.acq.osd.mil/dsb/.

SUPPLEMENTARY INFORMATION: This meeting is being held under the provisions of chapter 10 of title 5, United States Code (U.S.C.) commonly known as the “Federal Advisory Committee Act” or “FACA”), 5 U.S.C. 552b (commonly known as the “Government in the Sunshine Act”), and §§ 102-3.140 and 102-3.150 of title 41, Code of Federal Regulations (CFR).

Due to circumstances beyond the control of the Designated Federal Officer, the Defense Science Board was unable to provide public notification required by 41 CFR 102-3.150(a) concerning its January 18, 2024 meeting. Accordingly, the Advisory Committee Management Officer for the DoD, pursuant to 41 CFR 102-3.150(b), waives the 15-calendar day notification requirement.

Purpose of the Meeting: The mission of the DSB is to provide independent advice and recommendations on matters relating to the DoD's scientific and technical enterprise. The objective of the meeting is to deliberate and vote on DSB Task Force findings and recommendations.

Agenda: The meeting will begin on Thursday, January 18, 2024 at 3 p.m. Ms. Betsy Kowalski, DFO and Dr. Eric Evans, Chair of the DSB will provide opening remarks. Next, DSB members will deliberate and vote on an unclassified, minority opinion addendum to the DSB Task Force on Test and Evaluation's findings and recommendations. Dr. Eric Evans will provide closing remarks. The meeting will adjourn at 3:45 p.m.

Meeting Accessibility: In accordance with 5 U.S.C. 1009(d) and 41 CFR 102-3.155, this meeting is open to the public. Any interested person may attend the virtual meeting and view the addendum by visiting https://events.sa-meetings.com/tandevote/.

Written Statements: In accordance with 5 U.S.C. 1009(a)(3) and 41 CFR 102-3.105(j) and 102-3.140, interested persons may submit a written statement for consideration by the DSB at any time regarding its mission or in response to the stated agenda of a planned meeting. Individuals submitting a written statement must submit their statement to the DSB DFO at the email address provided in the FOR FURTHER INFORMATION CONTACT section at any point; however, if a written statement is not received at least three calendar days prior to the meeting, which is the subject of this notice, then it may not be provided to or considered by the DSB until a later date.

Dated: January 11, 2024.
Aaron T. Siegel,
Alternate OSD Federal Register Liaison Officer, Department of Defense.

[FR Doc. 2024-00857 Filed 1-17-24; 8:45 am]

BILLING CODE 6001-FR-P